DEPARTMENT OF HOMELAND SECURITY

Federal Emergency Management Agency

[Docket ID FEMA-2007-0008]

National Advisory Council; Meeting

AGENCY: Federal Emergency Management Agency, Department of Homeland Security.

ACTION: Committee management; notice of open federal advisory committee meeting.

SUMMARY: The Federal Emergency Management Agency's National Advisory Council (NAC) will meet on June 7 and 8, 2022. The meeting will be open to the public through virtual means.

DATES: The NAC will meet from 10:30 a.m. to 2:00 p.m. Eastern Time (ET) on Tuesday, June 7, 2022, and from 10:30 a.m. to 7:15 p.m. ET on Wednesday, June 8, 2022. Please note that the meeting may end early if the NAC has completed its business.

ADDRESSES: Anyone who wishes to participate must register with FEMA in advance by providing their name, official title, organization, telephone number, and email address to the person listed in the FOR FURTHER INFORMATION CONTACT section below by 5:00 p.m. ET on Friday, June 3, 2022. Members of the public are urged to provide written comments on the issues to be considered by the NAC. The topic areas are indicated in the SUPPLEMENTARY INFORMATION section below. Any written comments must be submitted and received by 5:00 p.m. ET on June 3, 2022, identified by Docket ID FEMA-2007-0008, and submitted via the Federal eRulemaking Portal at http://www.regulations.gov, following the instructions for submitting comments below.

Instructions for Submitting Comments: All submissions must include the words “Federal Emergency Management Agency” and the docket number (Docket ID FEMA-2007-0008) for this action. Comments received, including any personal information provided, will be posted without alteration at http://www.regulations.gov. For access to the docket or to read comments received by the NAC, go to http://www.regulations.gov, and search for Docket ID FEMA-2007-0008.

Public comment periods will be held on Tuesday, June 7, 2022, from 11:45 a.m. to 12:00 p.m. ET; and Wednesday, June 8, 2022, from 10:45 a.m. to 11:00 a.m. ET. All speakers must register in advance of the meeting to make remarks during the public comment period and must limit their comments to three minutes. Comments should be addressed to the NAC. Any comments unrelated to the agenda topics will not be considered. To register to make remarks during the public comment period, contact the person listed in the FOR FURTHER INFORMATION CONTACT section below by 5:00 p.m. ET on June 3, 2022. Please note that the public comment period may end before the time indicated, following the last call for comments.

The NAC is committed to ensuring all participants have equal access regardless of disability status. If you require a reasonable accommodation due to a disability to fully participate, please contact the individual listed in the FOR FURTHER INFORMATION CONTACT section as soon as possible.

FOR FURTHER INFORMATION CONTACT: Rob Long, Designated Federal Officer, Office of the National Advisory Council, Federal Emergency Management Agency, 500 C Street SW, Washington, DC 20472-3184, 202-716-4612, FEMA-NAC@fema.dhs.gov. The NAC website is https://www.fema.gov/about/offices/national-advisory-council.

SUPPLEMENTARY INFORMATION: Notice of this meeting is given under the Federal Advisory Committee Act, 5 U.S.C. appendix.

The NAC advises the FEMA Administrator on all aspects of emergency management. The NAC incorporates input from state, local, tribal, and territorial governments, and the private sector in the development and revision of FEMA plans and strategies. The NAC includes a cross-section of officials, emergency managers, and emergency response providers from state, local, tribal, and territorial governments, the private sector, and nongovernmental organizations.

Agenda: On Tuesday, June 7, 2022, NAC subcommittees will present to the full NAC on their ongoing work towards annual recommendations regarding the 2022-2026 FEMA Strategic Plan and related goals and objectives, viewable at https://www.fema.gov/about/strategic-plan. On Wednesday, June 8, 2022, the NAC will discuss past recommendations and current work with FEMA leadership, and then host several panels focused on issues related to wildland fire, including state, local, tribal, territorial, regional, and federal interagency perspectives.

The full agenda and any related documents for this meeting will be available by Friday, June 3, 2022, by contacting the person listed in the FOR FURTHER INFORMATION CONTACT section above.

Deanne Criswell,
Administrator, federal Emergency Management Agency.

[FR Doc. 2022-10662 Filed 5-17-22; 8:45 am]

BILLING CODE 9111-48-P